DEPARTMENT OF COMMERCE

National Oceanic and Atmospheric Administration

[I.D. 020703B]

Proposed Information Collection; Comment Request; Highly Migratory Species Permit Family of Forms

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 14, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Dianne Stephan, phone 978/281-9397; Highly Migratory Species Division, NMFS, 1 Blackburn Drive, Gloucester, MA 01930.

SUPPLEMENTARY INFORMATION:

I. Abstract

Under the provisions of the Magnuson-Stevens Fishery Conservation and Management Act (16 U.S.C. 1801 et seq.), NOAA is responsible for management of the Nation's marine fisheries. In addition, NOAA must comply with the United States' obligations under the Atlantic Tunas Convention Act (16 U.S.C. 971 et seq.). NOAA must collect information from dealers to monitor the import and export of bigeye tuna and swordfish in order to comply with international obligations established through membership in the International Commission for the Conservation of Atlantic Tunas (ICCAT). ICCAT has implemented a trade monitoring program for bigeye tuna and swordfish to discourage illegal, unregulated and unreported fishing activities as well as further understanding of catches and international trade for these species.

In order to implement the binding recommendations of ICCAT, the Atlantic Tunas Dealer Permit (currently approved under 0648-0202) will be modified to address all import, export, and re-export of bigeye tuna for Atlantic coast dealers. The Pacific Tuna Dealer Permit (currently approved under 0648-0202) will be modified to address Pacific dealers involved in the import, export, and re-export of bigeye tuna. Finally, the Swordfish Dealer Permit (currently approved under 0648-0205) will be modified to include export and re-export of swordfish. All existing tuna and swordfish dealer permit requirements will be merged with the highly migratory species vessel permits under this collection.

II. Method of Collection

Relevant dealers must apply for or renew permits annually by mail. Renewal forms for all dealer permits are provided annually.

III. Data

OMB Number: 0648-0327.

Form Number: None.

Type of Review: Regular submission.

Affected Public: Businesses or other for-profit organizations.

Estimated Number of Respondents: 960.

Estimated Time Per Response: 5 minutes.

Estimated Total Annual Burden Hours: 80.

Estimated Total Annual Cost to Public: $500.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 5, 2003.
Gwellnar Banks,
Management Analyst, Office of the Chief Information Officer.

[FR Doc. 03-3496 Filed 2-11-03; 8:45 am]

BILLING CODE 3510-22-P